DEPARTMENT OF TRANSPORTATION

Federal Aviation Administration

14 CFR Part 39

[Docket No. FAA-2004-19681; Directorate Identifier 2003-NM-184-AD; Amendment 39-13999; AD 2005-05-10]

RIN 2120-AA64

Airworthiness Directives; BAE Systems (Operations) Limited Model BAe 146 Series Airplanes

AGENCY: Federal Aviation Administration (FAA), Department of Transportation (DOT).

ACTION: Final rule.

SUMMARY: The FAA is adopting a new airworthiness directive (AD) for all BAE Systems (Operations) Limited Model BAe 146 series airplanes. This AD requires repetitive detailed inspections for cracking of the elevator “G” weight support structure, and repairs if necessary. This AD also provides for an optional terminating action. This AD is prompted by reported cracking of the elevator “G” weight support structure. We are issuing this AD to prevent failure of the elevator “G” weight support structure with possible consequent jamming of the right-hand elevator servo tab and reduced controllability of the airplane.

DATES: This AD becomes effective April 15, 2005.

The incorporation by reference of certain publications listed in the AD is approved by the Director of the Federal Register as of April 15, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW, room PL-401, Washington, DC. This docket number is FAA-2004-19681; the directorate identifier for this docket is 2003-NM-184-AD.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION: The FAA proposed to amend 14 CFR Part 39 with an AD for all BAE Systems (Operations) Limited Model BAe 146 series airplanes. That action, published in the Federal Register on November 24, 2004 (69 FR 68265), proposed to require repetitive detailed inspections for cracking of the elevator “G” weight support structure, and repairs if necessary. That action also proposed to provide an optional terminating action.

Comments

We provided the public the opportunity to participate in the development of this AD. No comments have been submitted on the proposed AD or on the determination of the cost to the public.

Conclusion

We have carefully reviewed the available data and determined that air safety and the public interest require adopting the AD as proposed.

Costs of Compliance

This AD will affect about 19 airplanes of U.S. registry. The required actions will take about 1 work hour per airplane, at an average labor rate of $65 per work hour. Based on these figures, the estimated cost of this AD for U.S. operators is $1,235, or $65 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-10 BAE Systems (Operations) Limited (Formerly British Aerospace Regional Aircraft): Amendment 39-13999. Docket No. FAA-2004-19681; Directorate Identifier 2003-NM-184-AD.

Effective Date

(a) This AD becomes effective April 15, 2005.

Affected ADs

(b) None.

Applicability

(c) This AD applies to all BAE Systems (Operations) Limited Model BAe 146 series airplanes, certificated in any category.

Unsafe Condition

(d) This AD was prompted by reported cracking of the elevator “G” weight support structure. We are issuing this AD to prevent failure of the elevator “G” weight support structure with possible consequent jamming of the right-hand elevator servo tab and reduced controllability of the airplane.

Compliance

(e) You are responsible for having the actions required by this AD performed within the compliance times specified, unless the actions have already been done.

Verification of Applicability

(f) Before the accumulation of 14,000 total landings, or within 4,000 landings after the effective date of this AD, whichever is later: Perform a one-time general visual inspection of the elevator “G” weight support structure to determine whether BAE Systems (Operations) Limited Modification HCM00654A as described in BAE Systems (Operations) Limited Modification Service Bulletin SB.27-037-00654A, Revision 2, dated May 8, 2003, has been incorporated on the airplane. If it can be conclusively determined that HCM00654A has been incorporated, no further action is required by this AD.

Note 1: For the purposes of this AD, a general visual inspection is “a visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Inspection

(g) For airplanes on which BAE Systems (Operations) Limited Modification HCM00654A has not been done and airplanes on which it cannot be conclusively determined that this modification has been done: Before the accumulation of 14,000 total landings, or within 4,000 landings after the effective date of this AD, whichever is later, except as provided by paragraph (h) of this AD, perform a detailed inspection for cracking of the elevator “G” weight support structure, in accordance with the Accomplishment Instructions of BAE Systems (Operations) Limited Inspection Service Bulletin ISB.27-037, Revision 3, dated April 17, 2003.

(1) If no crack is found and the structure has not been repaired previously, repeat the inspection at intervals not to exceed 4,000 landings.

(2) If no crack is found but the structure has been repaired previously, repeat the inspection at applicable intervals specified in Appendix 1 of the service bulletin.

Note 2: For the purposes of this AD, a detailed inspection is “an intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Post-Incident Inspection

(h) If, before or after any inspection required by this AD, the airplane experiences any incident of nose wheel shimmy; overweight, hard, or high drag/side load landing; flight in severe turbulence; or pitch oscillation: Before further flight, repeat the inspection required by paragraph (g) of this AD. If no crack is found, repeat the inspection required by paragraph (g)(1) or (g)(2) of this AD, as applicable.

Corrective Actions

(i) If any crack is found during any inspection required by paragraph (g) or (h) of this AD, before further flight, replace the elevator “G” weight support structure in accordance with paragraph (j) of this AD, or repair the structure in accordance with a method approved by the Manager, International Branch, ANM-116, FAA, Transport Airplane Directorate, or the Civil Aviation Authority (CAA) (or its delegated representative).

Optional Terminating Action

(j) Replacement of the existing elevator “G” weight support structure with a new, improved elevator “G” weight support structure in accordance with BAE Systems (Operations) Limited Modification Service Bulletin SB.27-037-00654A, Revision 2, dated May 8, 2003, terminates the repetitive inspections required by paragraph (g) of this AD.

No Reporting Requirement

(k) Although the service bulletins referenced in this AD specify to submit certain information to the manufacturer, this AD does not include that requirement.

Alternative Methods of Compliance

(l) In accordance with 14 CFR 39.19, the Manager, International Branch, ANM-116, is authorized to approve alternative methods of compliance for this AD.

Related Information

(m) British airworthiness directive 006-04-2003 also addresses the subject of this AD.

Material Incorporated by Reference

(n) You must use BAE Systems (Operations) Limited Inspection Service Bulletin ISB.27-037, Revision 3, dated April 17, 2003; to perform the inspections and corrective actions that are required by this AD, unless the AD specifies otherwise. If the replacement of the elevator “G” weight support structure is accomplished, you must use BAE Systems (Operations) Limited Modification Service Bulletin SB.27-037-00654A, Revision 2, dated May 8, 2003; to accomplish this replacement. The Director of the Federal Register approves the incorporation by reference of these documents in accordance with 5 U.S.C. 552(a) and 1 CFR part 51. For copies of the service information, contact British Aerospace Regional Aircraft American Support, 13850 Mclearen Road, Herndon, Virginia 20171. For information on the availability of this material at the National Archives and Records Administration (NARA), call (202) 741-6030, or go to http://www.archives.gov/federal_register/code_of_federal_regulations/ibr_locations.html. You may view the AD docket at the Docket Management Facility, U.S. Department of Transportation, 400 Seventh Street SW, room PL-401, Nassif Building, Washington, DC.

Issued in Renton, Washington, on February 28, 2005.
Ali Bahrami,
Manager, Transport Airplane Directorate, Aircraft Certification Service.

[FR Doc. 05-4412 Filed 3-10-05; 8:45 am]

BILLING CODE 4910-13-P